DEPARTMENT OF THE TREASURY

Submission for OMB Review; Comment Request

December 11, 2008.

The Department of the Treasury will submit the following public information collection requirement(s) to OMB for review and clearance under the Paperwork Reduction Act of 1995, Public Law 104-13 after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before January 16, 2009 to be assured of consideration.

Office of Domestic Finance

OMB Number: 1505-0189.

Type of Review: Extension.

Title: Treasury International Capital Form BQ-3, “Report of Maturities of Selected Liabilities of Depository Institutions, Brokers, and Dealers to Foreigners”.

Form: BQ-3.

Description: Form BQ-3 is required by law and is designed to collect timely information on international portfolio capital movements, including maturities of selected U.S. dollar and foreign currency liabilities of depository institutions, bank and financial holding companies, brokers and dealers to foreigners. This information is necessary in the computation of the U.S. balance of payments accounts and the U.S. international investment position, and in the formulation of U.S. international financial and monetary policies.

Respondents: Businesses and other for-profit institutions.

Estimated Total Reporting Burden: 1,568 hours.

OMB Number: 1505-0018.

Type of Review: Extension.

Title: Treasury International Capital Form BL-2, “Report of Customers’ U.S. Dollar Liabilities to Foreigners”.

Form: BL-2.

Description: Form BL-2 is required by law and is designed to collect timely information on international portfolio capital movements, including U.S. dollar liabilities of customers of depository institutions, bank and financial holding companies, brokers and dealers vis-a-vis foreigners. The information is necessary in the computation of the U.S. balance of payments accounts and the U.S. international investment position, and in the formulation of U.S. international financial and monetary policies.

Respondents: Businesses and other for-profit institutions.

Estimated Total Reporting Burden: 8,928 hours.

OMB Number: 1505-0020.

Type of Review: Extension.

Title: Treasury International Capital Form BQ-2, “Part 1—Report of Foreign Currency Liabilities and Claims of Depository Institutions, Brokers and Dealers.”

Description: Form BQ-2 is required by law and is designed to collect timely information on international portfolio capital movements, including liabilities and claims of depository institutions, bank and financial holding companies, brokers and dealers, and their customers' liabilities vis-à-vis foreigners, that are denominated in foreign currencies. This information is necessary in the computation of the U.S. balance of payments accounts and the U.S. international investment position, and in the formulation of U.S. international financial and monetary policies.

Form: BQ-2.

Respondents: Businesses and other for-profit institutions.

Estimated Total Reporting Burden: 3,630 hours.

OMB Number: 1505-0024.

Type of Review: Extension.

Title: Treasury International Capital (TIC) Form CQ-1 “Report of Financial Liabilities to, and Financial Claims on, Foreign Residents” and Form CQ-2 “Report of Commercial Liabilities.

Description: Forms CQ-1 and CQ-2 are required by law to collect timely information on international portfolio capital movements, including data on financial and commercial liabilities to, and claims on, unaffiliated foreigners and certain affiliated foreigners held by non-banking enterprises in the U.S. This information is necessary in the computation of the U.S. balance of payments accounts and the U.S. international investment position, and in the formulation of U.S. international financial and monetary policies.

Forms: CQ-1, CQ-2.

Respondents: Businesses and other for-profit institutions.

Estimated Total Reporting Burden: 5,408 hours.

OMB Number: 1505-0149.

Type of Review: Extension.

Title: 31 CFR Part 128, Reporting of International Capital and Foreign Currency Transactions and Positions.

Description: 31 CFR Part 128 establishes general guidelines for reporting on U.S. claims on, and liabilities to foreigners; on transactions in securities with foreigners; and on monetary reserve of the U.S. It also establishes guidelines for reporting on the foreign currency of U.S. persons. It includes a recordkeeping requirement in section 128.5.

Respondents: Businesses and other for-profit institutions.

Estimated Total Reporting Burden: 4,950 hours.

OMB Number: 1505-0017.

Type of Review: Extension.

Title: Treasury International Capital Form BC, “Report of U.S. Dollar Claims of Depository Institutions, Brokers and Dealers on Foreigners”.

Description: Form BC is required by law and is designated to collect timely information on international portfolio capital movements, including own U.S. dollar claims of depository institutions, bank and financial holding companies, brokers and dealers vis-à-vis foreigners. The information is necessary in the computation of the U.S. balance of payments accounts and the U.S. international investment position, and in the formulation of U.S. international financial and monetary policies.

Respondents: Businesses and other for-profit institutions.

Estimated Total Reporting Burden: 33,804 hours.

OMB Number: 1505-0019.

Type of Review: Extension.

Title: Treasury International Capital Form BL-1, “Report of U.S. Dollar Liabilities of Depository Institutions, Brokers and Dealers to Foreigners”.

Description: Form BL-1 is required by law and is designed to collect timely information on international portfolio capital movements, including U.S. dollar liabilities of depository institutions, bank and financial holding companies, brokers and dealers vis-à-vis foreigners. The information is necessary in the computation of the U.S. balance of payments accounts and the U.S. international investment position, and in the formulation of U.S. international financial and monetary policies.

Form: BL-1.

Respondents: Businesses and other for-profit institutions.

Estimated Total Reporting Burden: 29,562 hours.

OMB Number: 1505-0016.

Type of Review: Extension.

Title: Treasury International Capital Form BQ-1, “Report of Customers’ U.S. Dollar Claims on Foreigners”.

Description: Form BQ-1 is required by law and is designed to collect timely information on international portfolio capital movements, including U.S. dollar claims of customers of depository institutions, bank and financial holding companies, brokers and dealers vis-à-vis foreigners. The information is necessary in the computation of the U.S. balance of payments accounts and the U.S. international investment position, and in the formulation of U.S. international financial and monetary policies.

Form: BQ-1.

Respondents: Businesses and other for-profit institutions.

Estimated Total Reporting Burden: 882 hours.

Clearance Officer: Dwight Wolkow, Treasury Office of Domestic Finance, RM 5205 MT, 1500 Pennsylvania Avenue, Washington, DC 20220, (202) 622-7448.

OMB Reviewer: Nick Fraser, (202) 395-5887, Office of Management and Budget, Room 10235, New Executive Office Building, Washington, DC 20503.

Robert Dahl,
Treasury PRA Clearance Officer.

[FR Doc. E8-29925 Filed 12-16-08; 8:45 am]

BILLING CODE 4810-25-P